DEPARTMENT OF HEALTH AND HUMAN SERVICES

Centers for Disease Control and Prevention

[30Day-06-05AG]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

Process Evaluation of the Protocol for Assessing Community Excellence in Environmental Health—New—National Center for Environmental Health (NCEH), Centers for Disease Control and Prevention (CDC).

Background and Brief Description

The CDC, through a cooperative agreement with the National Association of City and County Health Organizations (NACCHO), developed and disseminated the Protocol for Assessing Community Excellence in Environmental Health (PACE EH). This document consists of 13 tasks to engage the community in environmental health planning and assessment activities. PACE EH seeks to strengthen public health leadership, promote community collaboration, and encourage environmental justice. In the long run, PACE EH seeks to establish a new leadership role for local public health agencies and build sustainable community processes for decision-making. More than 1,700 copies of a guidebook have been disseminated to the public and approximately 900 organizations requested one or more copies for review. Little is known about how each of the hundreds of potentially interested communities nationwide evaluates the suitability of the PACE EH methodology to its own situation. Nor do we know the relative advantages and disadvantages each community perceives in this methodology compared to other tools and methods available for conducting environmental health assessments, nor the range of challenges encountered in implementing the method.

The purpose of the proposed study is to obtain information from current and potential PACE EH users that will be used to guide resource decisions related to its continued support and development. Two data collection activities are proposed. The first is a Web survey of all state and local health agencies that requested a copy of the PACE EH Guidebook. The survey will ask questions about their decision whether or not to adopt the method. If they did choose to adopt it, the survey will ask questions about their progress, challenges faced, and impacts of the method on their agency, the community, and the environment. The second data collection activity is a one-day site visit to 24 of the communities that are actively engaged in implementation to conduct interviews with key staff and community members. These site visits will provide additional detail about implementation issues and challenges that are not readily obtained through survey methodology. There is no cost to respondents other than their time. The total estimated annualized burden hours are 846.

Estimate of Annualized Burden Table
Type of data collection | Number of respondents | Number of responses per respondent | Average burden per response (in hours)
PACE EH Requestor Survey | 872 | 1 | 45/60
PACE EH Participant Interviews | 192 | 1 | 1

Dated: February 1, 2006.
Betsey Dunaway,
Acting Reports Clearance Officer, Centers for Disease Control and Prevention.

[FR Doc. E6-1695 Filed 2-7-06; 8:45 am]

BILLING CODE 4163-18-P